DEPARTMENT OF TRANSPORTATION

Federal Aviation Administration

14 CFR Part 97

[Docket No. 29959; Amdt. No. 1982]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination

1. FAA Rules Docket, FAA Headquarters Building, 800 Independence Avenue, SW., Washington, DC 20591;

2. The FAA Regional Office of the region in which affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Administration (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC on March 17, 2000.

L. Nicholas Lacey,

Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective Upon Publication

FDC date | State | City | Airport | FDC No. | SIAP
02/07/00 | NJ | Newark | Newark Intl | 0/1238 | ILS Rwy 4L Amdt 12... This Corrects FDC 0/1238 in TL 00-06.
02/11/00 | CA | Burbank | Burbank-Glendale-Pasadena | 0/1433 | ILS Rwy 8 Amdt 35... This corrects FDC 01/1433 in TL00-06.
02/24/00 | VT | Rutland | Rutland State | 0/1782 | LOC Rwy 19, Orig... This corrects FDC 0/1782 in TL00-07.
03/01/00 | CA | Monterey | Monterey Pennisula | 0/2080 | GPS Rwy 28L Amdt 1... This corrects FDC 0/2080 in TL 00-07.
03/01/00 | CO | Akron | Akron-Washington County | 0/2061 | VOR Rwy 29, Orig...
03/01/00 | CO | Fort Collins | Fort Collins-Loveland Muni | 0/2056 | VOR/DME RNAV Rwy 15, Amdt 4B...
03/01/00 | CO | Rifle | Garfield County Regional | 0/2063 | GPS Rwy 8, Orig...
03/01/00 | CO | Rifle | Garfield County Regional | 0/2064 | GPS Rwy 26, Orig...
03/01/00 | FL | Tallahassee | Tallahassee Regional | 0/2089 | GPS Rwy 27, Orig...
03/01/00 | IL | Bloomington/Normal | Central IL Regl Arpt at Bloomington-Normal | 0/2058 | VOR Rwy 11, Amdt 12A...
03/01/00 | IL | Bloomington/Normal | Central IL Regl Arpt at Bloomington-Normal | 0/2059 | LOC BC Rwy 11, Amdt 8...
03/01/00 | OR | Salem | McNary Field | 0/2054 | LOC BC Rwy 13 Amdt 6A...
03/02/00 | CA | Monterey | Monterey Peninsula | 0/2121 | LOC/DME Rwy 28L Amdt 3B...
03/02/00 | CA | Monterey | Monterey Peninsula | 0/2139 | GPS Rwy 10R, Amdt 1...
03/02/00 | CO | Colorado Springs | City of Colorado Springs Muni | 0/2130 | GPS Rwy 35R Orig...
03/02/00 | CO | Cortez | Cortez, Muni | 0/2129 | GPS Rwy 3 Amdt 1...
03/02/00 | CO | Lamar | Lamar Muni | 0/2126 | VOR Rwy 18 Amdt 10...
03/02/00 | CO | Lamar | Lamar Muni | 0/2127 | GPS Rwy 36 Amdt 1...
03/02/00 | CT | Oxford | Waterbury-Oxford | 0/2141 | GPS Rwy 36 Orig...
03/02/00 | MA | Bedford | Laurence G. Hanscom Field | 0/2145 | NDB Rwy 11, Amdt 21...
03/02/00 | MA | Bedford | Laurence G. Hanscom Field | 0/2146 | VOR Rwy 23, Amdt 8B...
03/02/00 | MA | Bedford | Laurence G. Hanscom Field | 0/2147 | ILS Rwy 11, Amdt 24...
03/02/00 | MA | Bedford | Laurence G. Hanscom Field | 0/2149 | NDB or GPS Rwy 29, Amdt 6...
03/02/00 | MA | Bedford | Laurence G. Hanscom Field | 0/2150 | ILS Rwy 29, Amdt 4...
03/02/00 | MA | Bedford | Laurence G. Hanscom Field | 0/2162 | GPS Rwy 23, Orig-A...
03/02/00 | MD | Mitchellville | Freeway | 0/2155 | VOR or GPS Rwy 36 Orig...
03/02/00 | MI | Detroit | Detroit Metropolitan Wayne County | 0/2173 | ILS Rwy 21R, Amdt 26A...
03/02/00 | MI | Detroit | Detroit Metropolitan Wayne County | 0/2174 | ILS Rwy 21L, Amdt 8B...
03/02/00 | NY | Monticello | Sullivan County Intl | 0/2144 | NDB or GPS Rwy 15 Amdt 6...
03/02/00 | OR | Portland | Portland Intl | 0/2163 | ILS Rwy 28L, Orig...
03/03/00 | SD | Madison | Madison Muni | 0/2181 | GPS Rwy 33 Orig...
03/03/00 | VT | Barre-Montpelier | Edward F. Knapp State | 0/2198 | VOR/DME Rwy 35 Amdt 1...
03/03/00 | VT | Barre-Montpelier | Edward F. Knapp State | 0/2199 | VOR Rwy 35 Amdt 3...
03/03/00 | VT | Barre-Montpelier | Edward F. Knapp State | 0/2200 | GPS Rwy 35 Orig...
03/06/00 | CA | Carlsbad | McClellan-Palomar | 0/2248 | ILS Rwy 24, Amdt 8...
03/06/00 | CA | Palo Alto | Palo Alto Airport of Santa Clara County | 0/2244 | GPS Rwy 30, Amdt 1...
03/06/00 | FL | Orlando | Orlando Executive | 0/2247 | VOR/DME Rwy 7, Orig...
03/06/00 | FL | Orlando | Orlando Executive | 0/2249 | NDB Rwy 7, Amdt 15...
03/06/00 | NY | Farmingdale | Republic | 0/2237 | GPS Rwy 14 Orig...
03/06/00 | SC | Greer | Greenville-Spartanburg Intl | 0/2240 | ILS Rwy 22, Amdt 3A...
03/06/00 | TX | Houston | George Bush Intercontinental Airport/Houston | 0/2256 | ILS Rwy 27, Amdt 3 (CAT I, II, III)...
03/07/00 | OR | North Bend | North Bend Muni | 0/2296 | NDB or GPS Rwy 4 Amdt 4...
03/07/00 | TX | Dallas-Fort Worth | Dallas-Fort Worth Intl | 0/2286 | ILS Rwy 17C (CAT I, II, III), Amdt 7A...
03/07/00 | TX | Dallas-Fort Worth | Dallas-Fort Worth Intl | 0/2288 | GPS Rwy 35L, Orig...
03/07/00 | TX | Dallas-Fort Worth | Dallas-Fort Worth Intl | 0/2289 | GPS Rwy 35C, Orig...
03/07/00 | TX | Dallas-Fort Worth | Dallas-Fort Worth Intl | 0/2290 | NDB Rwy 35C, Amdt 10...
03/07/00 | TX | Dallas-Fort Worth | Dallas-Fort Worth Intl | 0/2291 | ILS Rwy 35L, Amdt 2A...
03/07/00 | TX | Dallas-Fort Worth | Dallas-Fort Worth Intl | 0/2293 | ILS Rwy 35C, Amdt 6C...
03/07/00 | TX | Dallas-Fort Worth | Dallas-Fort Worth Intl | 0/2294 | Converging ILS Rwy 35, Amdt 4B...
03/07/00 | TX | Dallas-Fort Worth | Dallas-Fort Worth Intl | 0/2300 | Converging ILS Rwy 35L, Amdt...
03/08/00 | IN | Terre Haute | Terre Haute International-Hulman Field | 0/2322 | ILS Rwy 5, Amdt 22B...
03/08/00 | IN | Terre Haute | Terre Haute International-Hulman Field | 0/2323 | LOC BC Rwy 23, Amdt 18A...
03/08/00 | IN | Terre Haute | Terre Haute International-Hulman Field | 0/2327 | VOR/DME Rwy 5, Amdt 17...
03/08/00 | TX | Dallas-Fort Worth | Dallas-Fort Worth Intl | 0/2314 | Converging, ILS Rwy 17C, Amdt 4B...
03/08/00 | TX | Dallas-Fort Worth | Dallas-Fort Worth Intl | 0/2342 | Converging ILS Rwy 36R, Amdt 1C...
03/09/00 | AMD | CA VOR/DME Rwy 2 | Arcata-Eureka | 0/2355 | 7...
03/09/00 | CA | Crescent City | Jack McNamara Field | 0/2356 | VOR/DME Rwy 35, Amdt 10...
03/09/00 | GA | Thomson | Thomson-McDuffie County | 0/2363 | NDB or GPS Rwy 28 Orig... GPS Rwy 28 Orig...
03/09/00 | OH | Lebanon | Lebanon-Warren County | 0/2372 | RNAV Rwy 1 Orig...
03/09/00 | OH | Lebanon | Lebanon-Warren County | 0/2373 | RNAV Rwy 19 Orig...
03/10/00 | AK | Kalskag | Kalskag | 0/2386 | GPS Rwy 6, Orig...
03/10/00 | AK | Kalskag | Kalskag | 0/2387 | GPS Rwy 24, Orig...
03/10/00 | AK | Koliganek | Koliganek | 0/2383 | GPS Rwy 9, Orig...
03/10/00 | AK | Koliganek | Koliganek | 0/2384 | GPS Rwy 27, Orig...
03/10/00 | AK | Mountain Village | Mountain Village | 0/2388 | GPS Rwy 20, Orig...
03/10/00 | AK | Mountain Village | Mountain Village | 0/2389 | GPS Rwy 2, Orig...
03/10/00 | FL | Melbourne | Melbourne Intl | 0/2385 | GPS Rwy 9L, Orig-B...
03/10/00 | GA | Thomson | Thomson-McDuffie County | 0/2381 | VOR/DME or GPS-A, Amdt 3...
03/13/00 | GA | Jekyll Island | Jekyll Island | 0/2512 | GPS Rwy 36 Orig-A...
03/13/00 | GA | Jekyll Island | Jekyll Island | 0/2513 | VOR or GPS-A Amdt 9A...
03/13/00 | OH | Middletown | Hook Field Muni | 0/2482 | NDB or GPS Rwy 23, Amdt 8B...
03/14/00 | LA | New Orleans | New Orleans Intl (Moisant Field) | 0/2498 | ILS Rwy 28, Amdt 4...
03/14/00 | NE | Wayne | Wayne Muni | 0/2530 | NDB or GPS Rwy 22, Amdt 3...
03/15/00 | OH | Middletown | Hook Field Muni | 0/2569 | LOC Rwy 23, Amdt 7C...

[FR Doc. 00-7194 Filed 3-22-00; 8:45 am]

BILLING CODE 4910-13-M